DEPARTMENT OF ENERGY

Federal Energy Regulatory Commission

Combined Notice of Filings #3

Take notice that the Commission received the following electric rate filings:

Docket Numbers: ER22-1750-000.

Applicants: Constellation Energy Commodities Group Maine, LLC.

Description: § 205(d) Rate Filing: Notice of Change in Status, Revised MBR Tariffs, and Request for Waiver to be effective 5/2/2022.

Filed Date: 4/29/22.

Accession Number: 20220429-5219.

Comment Date: 5 p.m. ET 5/20/22.

Docket Numbers: ER22-1751-000.

Applicants: Indeck-Yerkes Limited Partnership.

Description: § 205(d) Rate Filing: Indeck Yerkes Notice of Change in Status and Seller Category Designation to be effective 5/2/2022.

Filed Date: 4/29/22.

Accession Number: 20220429-5222.

Comment Date: 5 p.m. ET 5/20/22.

Docket Numbers: ER22-1752-000.

Applicants: Constellation Framingham, LLC.

Description: § 205(d) Rate Filing: Notice of Change in Status, Revised MBR Tariffs, and Request for Waiver to be effective 5/2/2022.

Filed Date: 4/29/22.

Accession Number: 20220429-5224.

Comment Date: 5 p.m. ET 5/20/22.

Docket Numbers: ER22-1753-000.

Applicants: Constellation Mystic Power, LLC.

Description: § 205(d) Rate Filing: Notice of Change in Status, Revised MBR Tariffs, and Request for Waiver to be effective 5/2/2022.

Filed Date: 4/29/22.

Accession Number: 20220429-5227.

Comment Date: 5 p.m. ET 5/20/22.

Docket Numbers: ER22-1754-000.

Applicants: Constellation New Boston, LLC.

Description: § 205(d) Rate Filing: Notice of Change in Status, Revised MBR Tariffs, and Request for Waiver to be effective 5/2/2022.

Filed Date: 4/29/22.

Accession Number: 20220429-5231.

Comment Date: 5 p.m. ET 5/20/22.

Docket Numbers: ER22-1755-000.

Applicants: Constellation NewEnergy, Inc.

Description: § 205(d) Rate Filing: Notice of Change in Status, Revised MBR Tariffs, and Request for Waiver to be effective 5/2/2022.

Filed Date: 4/29/22.

Accession Number: 20220429-5240.

Comment Date: 5 p.m. ET 5/20/22.

Docket Numbers: ER22-1756-000.

Applicants: Constellation Power Source Generation, LLC.

Description: § 205(d) Rate Filing: Notice of Change in Status, Revised MBR Tariffs, and Request for Waiver to be effective 5/2/2022.

Filed Date: 4/29/22.

Accession Number: 20220429-5241.

Comment Date: 5 p.m. ET 5/20/22.

Docket Numbers: ER22-1757-000.

Applicants: Constellation West Medway, LLC.

Description: § 205(d) Rate Filing: Notice of Change in Status, Revised MBR Tariffs, and Request for Waiver to be effective 5/2/2022.

Filed Date: 4/29/22.

Accession Number: 20220429-5248.

Comment Date: 5 p.m. ET 5/20/22.

Docket Numbers: ER22-1758-000.

Applicants: Constellation Wyman, LLC.

Description: § 205(d) Rate Filing: Notice of Change in Status, Revised MBR Tariffs, and Request for Waiver to be effective 5/2/2022.

Filed Date: 4/29/22.

Accession Number: 20220429-5252.

Comment Date: 5 p.m. ET 5/20/22.

Docket Numbers: ER22-1759-000.

Applicants: Cow Branch Wind Power, LLC.

Description: § 205(d) Rate Filing: Notice of Change in Status, Revised MBR Tariffs, and Request for Waiver to be effective 5/2/2022.

Filed Date: 4/29/22.

Accession Number: 20220429-5258.

Comment Date: 5 p.m. ET 5/20/22.

Docket Numbers: ER22-1760-000.

Applicants: CR Clearing, LLC.

Description: § 205(d) Rate Filing: Notice of Change in Status, Revised MBR Tariffs, and Request for Waiver to be effective 5/2/2022.

Filed Date: 4/29/22.

Accession Number: 20220429-5259.

Comment Date: 5 p.m. ET 5/20/22.

Docket Numbers: ER22-1761-000.

Applicants: Criterion Power Partners, LLC.

Description: § 205(d) Rate Filing: Notice of Change in Status, Revised MBR Tariffs, and Request for Waiver to be effective 5/2/2022.

Filed Date: 4/29/22.

Accession Number: 20220429-5266.

Comment Date: 5 p.m. ET 5/20/22.

Docket Numbers: ER22-1762-000.

Applicants: Fair Wind Power Partners, LLC.

Description: § 205(d) Rate Filing: Notice of Change in Status, Revised MBR Tariffs, and Request for Waiver to be effective 5/2/2022.

Filed Date: 4/29/22.

Accession Number: 20220429-5267.

Comment Date: 5 p.m. ET 5/20/22.

Docket Numbers: ER22-1763-000.

Applicants: Fourmile Wind Energy, LLC.

Description: § 205(d) Rate Filing: Notice of Change in Status, Revised MBR Tariffs, and Request for Waiver to be effective 5/2/2022.

Filed Date: 4/29/22.

Accession Number: 20220429-5270.

Comment Date: 5 p.m. ET 5/20/22.

Docket Numbers: ER22-1764-000.

Applicants: Handsome Lake Energy, LLC.

Description: § 205(d) Rate Filing: Notice of Change in Status, Revised MBR Tariffs, and Request for Waiver to be effective 5/2/2022.

Filed Date: 4/29/22.

Accession Number: 20220429-5271.

Comment Date: 5 p.m. ET 5/20/22.

Docket Numbers: ER22-1765-000.

Applicants: Clinton Battery Utility, LLC.

Description: § 205(d) Rate Filing: Notice of Change in Status, Revised MBR Tariffs, and Request for Waiver to be effective 5/2/2022.

Filed Date: 4/29/22.

Accession Number: 20220429-5273.

Comment Date: 5 p.m. ET 5/20/22.

Docket Numbers: ER22-1766-000.

Applicants: Harvest Windfarm, LLC.

Description: § 205(d) Rate Filing: Notice of Change in Status, Revised MBR Tariffs, and Request for Waiver to be effective 5/2/2022.

Filed Date: 4/29/22.

Accession Number: 20220429-5284.

Comment Date: 5 p.m. ET 5/20/22.

Docket Numbers: ER22-1767-000.

Applicants: High Mesa Energy, LLC.

Description: § 205(d) Rate Filing: Notice of Change in Status, Revised MBR Tariffs, and Request for Waiver to be effective 5/2/2022.

Filed Date: 4/29/22.

Accession Number: 20220429-5285.

Comment Date: 5 p.m. ET 5/20/22.

Docket Numbers: ER22-1768-000.

Applicants: Michigan Wind 1, LLC.

Description: § 205(d) Rate Filing: Notice of Change in Status, Revised MBR Tariffs, and Request for Waiver to be effective 5/2/2022.

Filed Date: 4/29/22.

Accession Number: 20220429-5287.

Comment Date: 5 p.m. ET 5/20/22.

Docket Numbers: ER22-1769-000.

Applicants: Michigan Wind 2, LLC.

Description: § 205(d) Rate Filing: Notice of Change in Status, Revised MBR Tariffs, and Request for Waiver to be effective 5/2/2022.

Filed Date: 4/29/22.

Accession Number: 20220429-5288.

Comment Date: 5 p.m. ET 5/20/22.

Docket Numbers: ER22-1770-000.

Applicants: Shooting Star Wind Project, LLC.

Description: § 205(d) Rate Filing: Notice of Change in Status, Revised MBR Tariffs, and Request for Waiver to be effective 5/2/2022.

Filed Date: 4/29/22.

Accession Number: 20220429-5291.

Comment Date: 5 p.m. ET 5/20/22.

Docket Numbers: ER22-1771-000.

Applicants: Nine Mile Point Nuclear Station, LLC.

Description: § 205(d) Rate Filing: Notice of Change in Status, Revised MBR Tariffs, and Request for Waiver to be effective 5/2/2022.

Filed Date: 4/29/22.

Accession Number: 20220429-5293.

Comment Date: 5 p.m. ET 5/20/22.

Docket Numbers: ER22-1772-000.

Applicants: R.E. Ginna Nuclear Power Plant, LLC.

Description: § 205(d) Rate Filing: Notice of Change in Status, Revised MBR Tariffs, and Request for Waiver to be effective 5/2/2022.

Filed Date: 4/29/22.

Accession Number: 20220429-5294.

Comment Date: 5 p.m. ET 5/20/22.

Docket Numbers: ER22-1773-000.

Applicants: Tuana Springs Energy, LLC.

Description: § 205(d) Rate Filing: Notice of Change in Status, Revised MBR Tariffs, and Request for Waiver to be effective 5/2/2022.

Filed Date: 4/29/22.

Accession Number: 20220429-5297.

Comment Date: 5 p.m. ET 5/20/22.

Docket Numbers: ER22-1774-000.

Applicants: Wildcat Wind, LLC.

Description: § 205(d) Rate Filing: Notice of Change in Status, Revised MBR Tariffs, and Request for Waiver to be effective 5/2/2022.

Filed Date: 4/29/22.

Accession Number: 20220429-5301.

Comment Date: 5 p.m. ET 5/20/22.

Docket Numbers: ER22-1775-000.

Applicants: West Medway II, LLC.

Description: § 205(d) Rate Filing: Notice of Change in Status, Revised MBR Tariffs, and Request for Waiver to be effective 5/2/2022.

Filed Date: 4/29/22.

Accession Number: 20220429-5302.

Comment Date: 5 p.m. ET 5/20/22.

Docket Numbers: ER22-1776-000.

Applicants: Harvest II Windfarm, LLC.

Description: § 205(d) Rate Filing: Notice of Change in Status, Revised MBR Tariffs, and Request for Waiver to be effective 5/2/2022.

Filed Date: 4/29/22.

Accession Number: 20220429-5304.

Comment Date: 5 p.m. ET 5/20/22.

Docket Numbers: ER22-1777-000.

Applicants: Madison Fields Solar Project, LLC.

Description: Baseline eTariff Filing: Market-Based Rate Application to be effective 6/29/2022.

Filed Date: 4/29/22.

Accession Number: 20220429-5314.

Comment Date: 5 p.m. ET 5/20/22.

Docket Numbers: ER22-1778-000.

Applicants: Midway-Sunset Cogeneration Company.

Description: § 205(d) Rate Filing: Midway Sunset Cogeneration Turbine A Filing to be effective 5/1/2022.

Filed Date: 4/29/22.

Accession Number: 20220429-5323.

Comment Date: 5 p.m. ET 5/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2022.
Debbie-Anne A. Reese,
Deputy Secretary.

[FR Doc. 2022-09647 Filed 5-4-22; 8:45 am]

BILLING CODE 6717-01-P